DEPARTMENT OF AGRICULTURE

Agricultural Marketing Service

[Doc. No. AMS-TM-21-0021]

Notice of Intent To Request To Conduct a New Information Collection—Generic Clearance

AGENCY: Agricultural Marketing Service, USDA.

ACTION: Notice and request for comments; new collection.

SUMMARY: This notice announces the Agricultural Marketing Service's (AMS) intention to request approval from the Office of Management and Budget (OMB) to conduct a new collection for surveys conducted by the Transportation and Marketing Program Marketing Services Division funded through cooperative agreements with various cooperators (other Federal agencies, State governments, land grant universities, and other organizations). AMS works with universities and other entities to research market access issues related to local and regional food systems. Surveys are a vital tool to help determine where to focus our research, as well as where we should encourage or initiate original research to support the sector. This generic clearance will allow AMS to conduct surveys with cooperating institutions in a timely manner.

DATES: Comments on this notice must be received by June 7, 2021 to be assured of consideration.

ADDRESSES: Interested persons are invited to submit comments concerning this notice. Comments should be submitted online at www.regulations.gov or mailed to La Tasha Thomas, Marketing Services Division, Transportation and Marketing Program, AMS, U.S. Department of Agriculture (USDA), 1400 Independence Ave. SW, Room 1090 South Building, AG STOP 0269, Washington, DC 20250-0269. All comments should be identified with the docket number (AMS-TM-21-0021), the date, and the page number of this issue of the Federal Register. All comments received will be posted without change, including any personal information provided, online at http://www.regulations.gov.

FOR FURTHER INFORMATION CONTACT: La Tasha Thomas, Marketing Services Division, Transportation and Marketing Program, AMS, USDA, 1400 Independence Ave. SW, Room 1090 South Building, AG STOP 0269, Washington, DC 20250-0269; Tel. 202-720-8317. Comments should reference Docket No. AMS-TM-21-0021.

SUPPLEMENTARY INFORMATION: Title: AMS Research Cooperative Agreements Generic Clearance.

OMB Number: 0581-NEW.

Expiration Date of Approval: 3 years from approval.

Type of Request: Intent to seek approval to conduct new information collections.

Abstract: Under the Agricultural Marketing Act of 1946, as amended (7 U.S.C. 1621 et seq.), AMS is responsible for conducting research to enhance market access for small and medium sized farmers. The role of the Marketing Services Division (MSD) within AMS is to research marketing and distribution of U.S. agricultural products. The division identifies marketing challenges and opportunities, researches and provides analysis to help business enterprises, local communities, governments, and other stakeholders take advantage of those opportunities, and also develops, evaluates, and disseminates strategies including methods to diversify and expand direct-marketing farming and producer operations. MSD works to improve market access for producers and develop new markets through three main roles as a researcher, a convener, and a technical assistance provider. In AMS' vision, local food producers, markets, and communities have access to ideas, innovations, and research in order to grow and sustain productive businesses and support community development. Such information ensures that opportunities for U.S. food producers are readily available and communities are equipped to successfully grow and sell regionally produced foods, while also supporting increased access to locally produced foods.

This generic clearance seeks approval for AMS alone or through cooperators to conduct a variety of surveys. The surveys will cover topics such as: Feasibility studies, challenges and opportunities facing local and regional food systems, market access, community development, local, regional and State ordinances, development and expansion of marketing opportunities, food safety, and food access, as well as adjustments to market disruptions (such as the current pandemic restrictions) and logistical impediments. This generic clearance will allow AMS to respond quickly to emerging issues and data collection needs.

This generic clearance is subject to the standard OMB clearance process. Each individual survey is then subject to a clearance process with an abbreviated clearance package which justifies the content of the survey, describes the sample design, provides the timeline for the survey activities, and the questionnaire. The review period for each individual survey is approximately 60 days, including a 30-day Federal Register notice period.

Authority

• In accordance with the Paperwork Reduction Act of 1995 (44 U.S.C. Chapter 35),

• The Agricultural Marketing Act of 1946, as amended (7 U.S.C. 1621 et seq.),

• 7 U.S.C. 1621 Congressional declaration of purpose; use of existing facilities; cooperation with States,

• 7 U.S.C. 1622(a)-(b) 1622. Duties of Secretary relating to agricultural products,

• 7 U.S.C. 1624 Cooperation with Government and State agencies, private research organizations, etc.; rules and regulations,

• 7 U.S.C. 2279g Marketing services; cooperative agreements,

• Grant Programs,

• 7 U.S.C. 1627c Local Agriculture Market Program (LAMP), and

• 7 U.S.C. 1621 Specialty Crop Block Grant Program.

Estimate of Burden: Public reporting burden for this collection of information is estimated to average 15-30 minutes, based on average of 10 surveys per year.

Respondents: Local food stakeholders and researched groups as determined by AMS and cooperators.

Estimated Number of Potential Respondents: 30,000.

Estimated Total Potential Annual Responses to All Surveys: 500.

Maximum Estimated Total Annual Burden on All Respondents: 15,000 hours.

Comments are invited on: (1) Whether the proposed collection of information is necessary for the proper performance of the functions of the agency, including whether the information will have practical utility; (2) the accuracy of the agency's estimate of the burden of the proposed collection of information, including the validity of the methodology and assumptions used; (3) ways to enhance the quality, utility, and clarity of the information to be collected; and (4) ways to minimize the burden of the collection of information on those who are to respond, including the use of appropriate automated, electronic, mechanical, or other technological collection techniques or other forms of information technology. Comments may be sent to the following addresses:

• Mail: La Tasha Thomas, Marketing Services Division, Transportation and Marketing Programs, AMS, USDA, 1400 Independence Ave. SW, Room 1090 South Building, AG STOP 0269, Washington, DC 20250-0269.

• Internet: www.regulations.gov.

All written comments should be identified with the docket number AMS-TM-21-0021. It is our intention to have all comments, whether submitted by mail or internet, available for viewing on the Regulations.gov (www.regulations.gov) internet site.

All responses to this notice will be summarized and included in the request for OMB approval. All comments will become a matter of public record.

Bruce Summers,
Administrator, Agricultural Marketing Service.

[FR Doc. 2021-07068 Filed 4-5-21; 8:45 am]

BILLING CODE 3410-02-P